INTERNATIONAL TRADE COMMISSION

[Investigation No. NAFTA-312-1]

Certain Steel Wire Rod

AGENCY: United States International Trade Commission.

ACTION: Institution and scheduling of an investigation under section 312(c)(2) of the North American Free Trade Agreement Implementation Act (19 U.S.C. 3372(c)(2)) (the Act).

SUMMARY: Following receipt of a request filed on July 24, 2001, on behalf of Co-Steel Raritan, GS Industries, Inc., Keystone Steel & Wire Company, and North Star Steel Texas Inc., the Commission instituted investigation No. NAFTA-312-1 under section 312(c)(2) of the Act to determine whether a surge in U.S. imports of certain steel wire rod from Canada and/or Mexico undermines the effectiveness of the import relief on wire rod provided for in Presidential Proclamation 7273 of February 16, 2000 (65 FR 8624, February 18, 2000).¹

¹ See the Proclamation for a specific definition of the covered products.

EFFECTIVE DATE: July 24, 2001.

FOR FURTHER INFORMATION CONTACT: Debra Baker (202-205-3180), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this investigation may be viewed on the Commission's electronic docket (EDIS-ON-LINE) at http://dockets.usitc.gov/eol/public.

SUPPLEMENTARY INFORMATION:

Participation in the Investigation and Service List

Persons wishing to participate in the investigation as parties must file an entry of appearance with the Secretary to the Commission not later than 2 business days after publication of this notice in the Federal Register.² The Secretary will prepare a service list containing the names and addresses of all persons, or their representatives, who are parties to this investigation upon the expiration of the period for filing entries of appearance.

² The Commission waives the period for entering an appearance under section 201.11 of the Commission's rules in light of the time limits of this investigation.

Conference

The Commission has scheduled a hearing in the form of a staff conference in connection with this investigation for 9:30 a.m. on August 8, 2001, at the U.S. International Trade Commission Building, 500 E Street SW., Washington, DC. Parties wishing to participate in the conference should contact Debra Baker (202-205-3180) not later than August 6, 2001, to arrange for their appearance. Parties in support of the request in this investigation and parties in opposition to the request will each be collectively allocated one hour within which to make an oral presentation at the conference. A nonparty who has testimony that may aid the Commission's deliberations may request permission to present a short statement at the conference.

Written Submissions

Each party is encouraged to submit a preconference brief to the Commission. The deadline for filing such briefs is August 6, 2001. Parties may also file postconference briefs, which shall not exceed 15 pages in length. The deadline for filing postconference briefs is August 10, 2001. In addition, any person who has not entered an appearance as a party to the investigation may submit a written statement of information pertinent to the subject of the investigation on or before August 10, 2001. On August 17, 2001, the Commission will make available to parties a public version of the staff report. Parties may submit final comments on or before August 20, 2001, on the basis of this report and other information on which they have not had an opportunity to comment; such comments shall not exceed 15 pages in length. All written submissions must conform with the provisions of section 201.8 of the Commission's rules; any submissions that contain confidential business information must also conform with the requirements of section 201.6 of the Commission's rules. The Commission's rules do not authorize filing of submissions with the Secretary by facsimile or electronic means.

The Commission may wish to use in this investigation the information provided in investigation No. TA-204-6, Certain Steel Wire Rod: Monitoring Developments in the Domestic Industry. Any confidential business information submitted in that investigation will be afforded the protection provided under the appropriate statutory authority. Respondents to questionnaires in investigation No. TA-204-6 will be contacted to assure they do not object to use of their data in this investigation. Any U.S. producer, importer, or purchaser that did not provide a questionnaire response in investigation No. TA-204-6 is urged to provide equivalent information in this investigation. If convenient, this may be done by completing the appropriate questionnaire(s) which are available on the Commission's web site at http://info.usitc.gov/OINV/INVEST/OINVINVEST.NSF; questionnaires should be returned to the Commission by August 8, 2001.

Authority: This investigation is being conducted under the authority of section 312(c) of the Act; this notice is published pursuant to section 206.3 of the Commission's rules.

Issued: August 1, 2001.
By order of the Commission.
Donna R. Koehnke,
Secretary.

[FR Doc. 01-19617 Filed 8-2-01; 8:45 am]

BILLING CODE 7020-02-P